DEPARTMENT OF THE INTERIOR

Bureau of Land Management

[NV-065-5440 FR F514; N-62049]

Notice of Realty Action: Recreation and Public Purposes Act Classification for Conveyance; Esmeralda County, NV

AGENCY: Bureau of Land Management, Interior.

ACTION: Notice of realty action.

SUMMARY: The Bureau of Land Management (BLM) has examined and found suitable for classification for conveyance, under the provisions of the Recreation and Public Purposes (R&PP) Act of 1926, as amended (43 U.S.C. 869 et seq.), approximately 29.29 acres of public land near the community of Dyer, Esmeralda County, Nevada. Esmeralda County proposes to acquire and manage the parcel as a solid waste transfer station and drop box facility.

ADDRESSES: Send written comments to the Assistant Field Manager, BLM Tonopah Field Station, P.O. Box 911, Tonopah, Nevada 89049. Detailed information concerning this action is available for review at the office of the Bureau of Land Management, Tonopah Field Station, 1553 South Main Street, Tonopah, Nevada 89049.

FOR FURTHER INFORMATION CONTACT: Wendy Seley, Realty Specialist, Bureau of Land Management, Tonopah Field Station, at (775) 482-7806 or the address listed above.

SUPPLEMENTARY INFORMATION: The following described public land, is hereby classified as suitable for conveyance under the provisions of the R&PP Act (43 U.S.C. 869 et seq.):

Mount Diablo Meridian, Nevada

T. 3 S., R. 35 E.

Sec. 36, lots 4, 5, 6, 7

Containing 29.29 acres, more or less, in Esmeralda County.

Esmeralda County has applied for patent to the public land under the R&PP Act. Esmeralda County proposes to use and manage the land for a municipal solid waste transfer station and drop box facility. The subject land is identified in the Tonopah Resource Management Plan, approved October 2, 1997, as not needed for federal purposes.

The conveyance is consistent with current Bureau planning for this area and would be in the public interest. The patent, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

3. A right-of-way authorized under the Act of October 21, 1976, (43 U.S.C. 1761) for powerline purposes granted to Valley Electric Association, its successors or assigns, by right-of-way No. Nev 051579.

4. A right-of-way authorized for a Federal Aid Highway (sec. 17) under the Act of November 9, 1921, as amended, (042 Stat. 0216) by right-of-way No. Nev 09885 granted to the Nevada Department of Transportation, its successors or assigns.

5. A right-of-way authorized under the Act of October 21, 1976 (43 U.S.C. 1761), for telephone and telegraph purposes granted to Nevada Bell, its successors or assigns, by right-of-way No. N-35352 and will be subject to:

1. All valid existing rights documented on the official public land records at the time of patent issuance.

Patent will contain the following provisions:

1. Esmeralda County, a political subdivision of the State of Nevada, assumes all liability for and shall defend, indemnify, and save harmless the United States and its officers, agents, representatives, and employees (hereinafter referred to in this clause as the United States), from all claims, loss, damage, actions, causes of actions, expense, and liability (hereinafter referred to in this clause as claims), resulting from, brought for, or on account of, any personal injury, threat of personal injury, or property damage received or sustained by any person or persons (including the patentees employees) or property growing out of, occurring, or attributable directly or indirectly, to the disposal of solid waste on or the release of hazardous substances from Mount Diablo Meridian, Nevada, T. 3 S., R. 35 E., section 36, lots 4, 5, 6, 7, regardless of whether such claims shall be attributable to: (1) The concurrent, contributory, or partial fault, failure or negligence of the United States; (2) the sole fault, failure, or negligence of the United States.

2. A portion of the above described land was used as a solid waste disposal site, and will be used as a solid waste transfer station and drop box facility. Upon closure, the site may contain small quantities of commercial and household wastes as determined in the Resource Conservation and Recovery Act of 1976, as amended (42 U.S.C. 6901), and defined in 40 CFR 261.4 and 261.5. Although there is no indication these materials pose any significant risk to human health or the environment, future land uses should be limited to those which do not penetrate the liner of final cover of the site unless excavation is conducted subject to applicable State and Federal requirements.

3. No portion of the land shall under any circumstances revert to the United States if any portion has been used for solid waste disposal or for any other purpose which may result in the disposal, placement, storage, or release of any hazardous substance.

A portion of the subject lands (19.70 acres, according to the survey records as of October 20, 2003) were previously classified and segregated for the purposes of a lease or sale under N-24695, authorizing a sanitary landfill pursuant to the Recreation and Public Purposes Act. Commencing on August 10, 2005, above described land will be segregated from all other forms of appropriation under the public land laws, including the general mining laws, except for conveyance under the Recreation and Public Purposes Act, leasing under the mineral leasing laws and disposals under the mineral material disposal laws. Interested parties may submit comments regarding the proposed conveyance or classification of the lands until September 26, 2005.

On August 26, 1997, Esmeralda County filed a R&PP application for approximately 20 acres of public land to be developed as a drop box facility with related facilities. A supplemental plat map was issued on October 21, 2003, increasing the application size to 29.29 acres. Esmeralda County is a political subdivision of the State of Nevada. Esmeralda County is a qualified local government entity. Additional detailed information pertaining to this application and plan of development is on file in case file N-62049 located at the address listed above.

Classification Comments: Interested parties may submit comments involving the suitability of the land for municipal solid waste transfer station and drop box facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for R&PP use.

Any adverse comments will be reviewed by the State Director. In the absence of any adverse comments, the classification of the land described in this notice will become effective October 11, 2005. The lands will not be offered for conveyance until after the classification becomes effective.

Authority: 43 CFR 2741.

Dated: June 30, 2005.
William S. Fisher,
Assistant Field Manager, Tonopah.

[FR Doc. 05-15812 Filed 8-9-05; 8:45 am]

BILLING CODE 4310-HC-P